NATIONAL AERONAUTICS AND SPACE ADMINISTRATION

[NOTICE: 23-023]

Name of Information Collection: Financial Assistance Awards/Grants and Cooperative Agreements

AGENCY: National Aeronautics and Space Administration (NASA).

ACTION: Notice of information collections.

SUMMARY: The National Aeronautics and Space Administration, as part of its continuing effort to reduce paperwork and respondent burden, invites the general public and other Federal agencies to take this opportunity to comment on proposed and/or continuing information collections.

DATES: Comments are due by May 22, 2023.

ADDRESSES: Written comments and recommendations for these information collections should be sent within 60 days of publication of this notice to www.reginfo.gov/public/do/PRAMain. Find this particular information collection by selecting “Currently under 60-day Review—Open for Public Comments” or by using the search function.

FOR FURTHER INFORMATION CONTACT: Requests for additional information or copies of these information collection instruments and instructions should be directed to Bill Edwards-Bodmer, NASA Clearance Officer, NASA Headquarters, 300 E Street SW, JF0000, Washington, DC 20546, call 757-864-3292, or email b.edwards-bodmer@nasa.gov.

SUPPLEMENTARY INFORMATION:

2700-0092

I. Abstract

This is a notice to revise OMB control number 2700-0092 to include a voluntary demographic information collection that is currently represented by 2700-0161. This collection is required to ensure proper accounting of Federal funds and property provided under financial assistance awards (grants and cooperative agreements) per 2 CFR 200—Uniform Administrative Requirements, Cost Principles, and Audit Requirements for Federal Awards. 2 CFR 200, subparts A through F, applies to all NASA award recipients except for for-profit organizations. Only Subparts A through D of 2 CFR 200 apply to for-profit organizations. Reporting and recordkeeping are prescribed at 2 CFR part 1800—Uniform Administrative Requirements, Cost Principles and Audit Requirements for Federal Awards. The requirements in 2 CFR part 1800 are applicable to awards that NASA issues to non-Federal entities, government, for-profit organization, and foreign organizations as allowed by 2 CFR 200.101, Applicability.

II. Methods of Collection

Grant and cooperative agreement proposals are submitted electronically through the NASA Solicitation and Proposal Integrated Review and Evaluation System (NSPIRES) or Grants.gov. The use of these systems reduces the need for proposers to submit multiple copies to the agency. Proposers may submit multiple proposals and notices of intent to different funding announcements without registering in NSPIRES each time.

Basis of Estimate

Approximately 7,000 NASA financial assistance awards are open at any one time. It is estimated that out of the 9,900 proposals received each year, NASA awards approximately 1,977 new awards. The period of performance for each financial assistance award is usually three to five years. Performance reports are filed annually, and historical records indicate that, on average, 1,625 changes to these reports are submitted annually. The total number of respondents is based on the average number of proposals that are received each year and the average number of active grants and cooperative agreements that are managed each year. The total number of hours spent on each task was estimated through historical records and experience of former recipients. Using past calculations, the total cost was estimated using the average salary (wages and benefits) for a GS-12 step 5.

III. Data

Title: Financial Assistance Awards/Grants and Cooperative Agreements.

OMB Number: 2700-0092.

Type of review: Revision of a previously approved information collection.

Affected Public: Non-profits, institutions of higher educations, government, and for-profit entities.

Estimated Annual Number of Activities: 300.

Estimated Number of Respondents per Activity: 36.

Annual Responses: 10,800.

Estimated Time per Response: 120 hours.

Estimated Total Annual Burden Hours: 1,296,000 hours.

Estimated Total Annual Cost: $47,952,000.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

2700-0161

I. Abstract

A Federal grant is an award of financial assistance from a Federal agency to a recipient to carry out a public purpose of support or stimulation authorized by a law of the United States. The NASA Procurement Office supports NASA research, science, and education communities through the award of research/education/and training grants in the science, technology, engineering, and math (STEM) fields. NASA has a continuing commitment to identify and address inequities associated with its grant review and awards processes. To support that commitment, NASA implemented a process to collect demographic data from grant applicants for the purpose of analyzing demographic differences associated with its award processes. Information collected includes the name, gender, race, ethnicity, disability status, citizenship status, education, and career data of the respondents. Submission of the information is voluntary and is not a precondition of award. However, if the information is not submitted, it will undermine the usefulness of information received from other respondents.

II. Methods of Collection

Electronic.

III. Data

Title: Research and Related Personal Data.

OMB Number: 2700-0161.

Type of Review: Reinstatement of expired information collection in use.

Affected Public: Not-For-Profit Institutions.

Estimated Number of Respondents: 5,000.

Estimated Time per Response: 5 minutes.

Estimated Total Annual Public Burden Hours: 416.7.

Estimated Total Annual Government Cost: $37,500.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2023-05863 Filed 3-21-23; 8:45 am]

BILLING CODE 7510-13-P